DEPARTMENT OF JUSTICE

Parole Commission

Sunshine Act Meeting

TIME AND DATE: 11 a.m., Thursday, September 8, 2011.

PLACE: U.S. Parole Commission, 90 K Street, NE., 3rd Floor, Washington, DC.

STATUS: Closed.

MATTERS TO BE CONSIDERED: Determinations on four petitions for reconsideration in original jurisdiction cases.

CONTACT PERSON FOR MORE INFORMATION: Patricia W. Moore, Staff Assistant to the Chairman, U.S. Parole Commission, 90 K Street, NE., 3rd Floor, Washington, DC 20530, (202) 346-7001.

Dated: August 29, 2011.
Rockne Chickinell,
General Counsel, U.S. Parole Commission.

[FR Doc. 2011-22565 Filed 9-6-11; 8:45 am]

BILLING CODE 4410-31-M